GENERAL SERVICES ADMINISTRATION

[OMB Control No. 3090-0221]

GSA Board of Contract Appeals Rules Procedure

AGENCY: GSA Board of Contract Appeals, GSA.

ACTION: Notice of request for comments regarding a renewal to an existing OMB clearance.

SUMMARY: Under the provisions of the Paperwork Reduction Act of 1995 (44 U.S.C. Chapter 35), the General Services Administration, has submitted to the Office of Management and Budget (OMB) a request to review and approve a renewal of a currently approved information collection requirement regarding the GSA Board of Contract Appeals (GSBCA) Rules Procedures. A request for public comments was published at 68 FR 57463, October 3, 2003. No comments were received.

Public comments are particularly invited on: Whether this collection of information is necessary and whether it will have practical utility; whether our estimate of the public burden of this collection of information is accurate, and based on valid assumptions and methodology; ways to enhance the quality, utility, and clarity of the information to be collected.

DATES: Submit comments on or before: January 28, 2004.

FOR FURTHER INFORMATION CONTACT: Margaret Pfunder, Chief Counsel, GSA Board of Contract Appeals, Room 7022, 1800 F Street, NW., Washington, DC 20405 or telephone (202) 501-0272.

ADDRESSES: Submit comments regarding this burden estimate or any other aspect of this collection of information, including suggestions for reducing this burden to Ms. Jeanette Thornton, GSA Desk Officer, OMB, Room 10236, NEOB, Washington, DC 20503, and a copy to General Services Administration, Regulatory Secretariat, 1800 F Street, NW., Room 4035, Washington, DC 20405. Please cite OMB Control Number 3090-0221.

SUPPLEMENTARY INFORMATION:

A. Purpose

The GSBCA requires the information collected in order to conduct proceedings in contract appeals and petitions, and cost applications. Parties include those persons or entities filing appeals, petitions, cost applications, and government agencies.

B. Annual Reporting Burden

Respondents: 55

Responses Per Respondent: 1

Hours Per Response: .117

Total Burden Hours: 6.4

Obtaining Copies of Proposals: Requesters may obtain a copy of the information collection documents from the General Services Administration, Regulatory Secretariat (MVA), 1800 F Street, NW., Room 4035, Washington, DC 20405, telephone (202) 208-7312, or by faxing your request to (202) 501-4067. Please cite OMB Control No. 3090-0221, GSA Board of Contract Appeals Rules Procedure, in all correspondence.

Dated: December 17, 2003.
Michael W. Carleton,
Chief Information Officer.

[FR Doc. 03-31879 Filed 12-24-03; 8:45 am]

BILLING CODE 6820-AL-P